DEPARTMENT OF TRANSPORTATION

Federal Motor Carrier Safety Administration

[Docket No. FMCSA-2014-0302]

Qualification of Drivers; Exemption Applications; Vision

AGENCY: Federal Motor Carrier Safety Administration (FMCSA), DOT.

ACTION: Notice of applications for exemptions, request for comments.

SUMMARY: FMCSA announces receipt of applications from 27 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 6, 2015. All comments will be investigated by FMCSA. The exemptions will be issued the day after the comment period closes.

ADDRESSES: You may submit comments bearing the Federal Docket Management System (FDMS) Docket No. FMCSA-2014-0302 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 27 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Joel C. Bailey

Mr. Bailey, 60, has had a macular scar in his left eye since 2007. The visual acuity in his right eye is 20/25, and in his left eye, 20/60. Following an examination in 2014, his ophthalmologist stated, “He has sufficient vision to perform driving tasks and operate a commercial vehicle with no restrictions.” Mr. Bailey reported that he has driven tractor-trailer combinations for 19 years, accumulating 1.9 million miles. He holds a Class A CDL from Florida. His driving record for the last 3 years shows no crashes and no convictions for moving violations in a CMV.

Mackfie Bradley, Jr.

Mr. Bradley, 47, has had macular scarring in his left eye since childhood. The visual acuity in his right eye is 20/40, and in his left eye, counting fingers. Following an examination in 2014, his optometrist stated, “In my medical opinion, Mr. Bradley has sufficient vision to safely operate a commercial vehicle.” Mr. Bradley reported that he has driven straight trucks for 8 years, accumulating 2.4 million miles. He holds an operator's license from North Carolina. His driving record for the last 3 years shows no crashes and no convictions for moving violations in a CMV.

Justin C. Bruchman

Mr. Bruchman, 31, has had a globe laceration with retinal detachment in his left eye since 2002. The visual acuity in his right eye is 20/20, and in his left eye, light perception. Following an examination in 2014, his optometrist stated, “Through my testing, the patient exhibits sufficient vision to operate a commercial vehicle.” Mr. Bruchman reported that he has driven straight trucks for 10 years, accumulating 500,000 miles. He holds an operator's license from Wisconsin. His driving record for the last 3 years shows no crashes and no convictions for moving violations in a CMV.

Bradley J. Compton

Mr. Compton, 52, has had amblyopia in his left eye since childhood. The visual acuity in his right eye is 20/20, and in his left eye, 20/100. Following an examination in 2014, his optometrist stated, “In my opinion, he has sufficient enough vision to perform the driving tasks required to operate a commercial vehicle.” Mr. Compton reported that he has driven straight trucks for 38 years, accumulating 494,000 miles. He holds a Class A CDL from Idaho. His driving record for the last 3 years shows no crashes and no convictions for moving violations in a CMV.

Anthony C. Curtis

Mr. Curtis, 71, has had enucleation due to cancerous choroid in his left eye since 1996. The visual acuity in his right eye is 20/25, and in his left eye, no light perception. Following an examination in 2014, his optometrist stated, “In my opinion Mr. Curtis has sufficient stable vision with his right eye to perform the driving taks [sic] required to operate a commercial vehicle.” Mr. Curtis reported that he has driven tractor-trailer combinations for 35 years, accumulating 3.5 million miles. He holds a Class A CDL from Washington. His driving record for the last 3 years shows no crashes and no convictions for moving violations in a CMV.

Douglas S. Dalling

Mr. Dalling, 46, has had Coats' Disease in his right eye since childhood. The visual acuity in his right eye is light perception, and in his left eye, 20/20. Following an examination in 2014, his ophthalmologist stated, “In my medical opinion, Mr. Dalling has sufficient vision in his left eye to perform the driving test required to operate a commercial vehicle.” Mr. Dalling reported that he has driven straight trucks for 16 years, accumulating 576,000 miles. He holds a Class B CDL from Pennsylvania. His driving record for the last 3 years shows no crashes and no convictions for moving violations in a CMV.

Lloyd A. Dornbusch

Mr. Dornbusch, 68, has had macular degeneration in his left eye since 2002. The visual acuity in his right eye is 20/20, and in his left eye, 20/150. Following an examination in 2014, his optometrist stated, “I certify that in my opinion Mr. Dornbusch has sufficient vision to perform the driving tasks required to operate a commercial vehicle.” Mr. Dornbusch reported that he has driven tractor-trailer combinations for 48 years, accumulating 2.4 million miles. He holds a Class A CDL from Pennsylvania. His driving record for the last 3 years shows no crashes and no convictions for moving violations in a CMV.

Randall R. Drake

Mr. Drake, 53, has had alternating esotropia in his left eye since childhood. The visual acuity in his right eye is 20/30, and in his left eye, 20/200. Following an examination in 2014, his optometrist stated, “He has a stable decrease in vision with a vision of 20/30 in the right eye and 20/200 in the left eye . . . He does have an ability to recognize traffic control signals and has not shown a noted decrease in his ability to operate a commercial vehicle.” Mr. Drake reported that he has driven straight trucks for 38 years, accumulating 380,000 miles, tractor-trailer combinations for 30 years, accumulating 300,000 miles, and buses for five years, accumulating 50,000 miles. He holds a Class C CDL from California. His driving record for the last 3 years shows no crashes and no convictions for moving violations in a CMV.

Paul E. Emmons

Mr. Emmons, 62, has had optic nerve atrophy in his right eye since childhood. The visual acuity in his right eye is 20/400, and in his left eye, 20/20. Following an examination in 2014, his optometrist stated, “In my opinion he has sufficient vision to operate commercial vehicles.” Mr. Emmons reported that he has driven straight trucks for 40 years, accumulating 1.2 million miles. He holds a Class B CDL from Rhode Island. His driving record for the last 3 years shows no crashes and no convictions for moving violations in a CMV.

Thomas P. Fitzsimmons Jr.

Mr. Fitzsimmons, 51, has had esotropia and amblyopia in his left eye since birth. The visual acuity in his right eye is 20/20, and in his left eye, 20/100. Following an examination in 2014, his optometrist stated, “In summary, Mr. Fitzsimmons has sufficient vision to operate a commercial vehicle.” Mr. Fitzsimmons reported that he has driven straight trucks for 18 years, accumulating 396,000 miles. He holds an operator's license from North Carolina. His driving record for the last 3 years shows no crashes and no convictions for moving violations in a CMV.

Steve L. Frisby

Mr. Frisby, 56, has had a retinal detachment in his right eye since 2004. The visual acuity in his right eye is 20/400, and in his left eye, 20/25. Following an examination in 2014, his optometrist stated, “It is my opinion that Mr. Frisby has sufficient vision to perform the driving tasks required to operate a commercial vehicle.” Mr. Frisby reported that he has driven straight trucks for 35 years, accumulating 4.38 million miles, and tractor-trailer combinations for 35 years, accumulating 4.38 million miles. He holds a Class A CDL from California. His driving record for the last 3 years shows no crashes and no convictions for moving violations in a CMV.

Daryl G. Gibson

Mr. Gibson, 45, has had a degenerated optic nerve in his left eye since childhood. The visual acuity in his right eye is 20/20, and in his left eye, light perception. Following an examination in 2014, his optometrist stated, “Vision is acceptable for driving a commercial vehicle.” Mr. Gibson reported that he has driven straight trucks for 3 years, accumulating 6,000 miles, and tractor-trailer combinations for 17 years, accumulating 340,000 miles. He holds a Class A CDL from Florida. His driving record for the last 3 years shows no crashes and one conviction for a moving violation in a CMV; he failed to yield to a traffic signal.

Mark J. Goodrich

Mr. Goodrich, 48, has had refractive amblyopia in his left eye since birth. The visual acuity in his right eye is 20/20, and in his left eye, 20/70. Following an examination in 2014, his optometrist stated, “Pt [sic] meets minimum standards of vision to safely drive a commercial vehicle.” Mr. Goodrich reported that he has driven straight trucks for 31 years, accumulating 186,000 miles. He holds an operator's license from Pennsylvania. His driving record for the last 3 years shows no crashes and no convictions for moving violations in a CMV.

Ramon L. Green

Mr. Green, 45, has retinal scarring in his left eye due to a traumatic incident in 2003. The visual acuity in his right eye is 20/20, and in his left eye, 20/400. Following an examination in 2014, his optometrist stated, “Ii [sic] is my medical opinion that Mr. Green has sufficient visual acuity and visual field to operate a commercial vehicle.” Mr. Green reported that he has driven straight trucks for 21 years, accumulating 1.89 million miles, and tractor-trailer combinations for 21 years, accumulating 2.63 million miles. He holds a Class A CDL from Louisiana. His driving record for the last 3 years shows no crashes and no convictions for moving violations in a CMV.

Carl E. Hess

Mr. Hess, 61, has had a full-thickness macular hole in his left eye since 2010. The visual acuity in his right eye is 20/30, and in his left eye, 20/50. Following an examination in 2014, his ophthalmologist stated, “US Department of Transportation Federal Vision Exemption Program . . . In my medical opinion, I do believe he has sufficient vision to perform the required driving tasks.” Mr. Hess reported that he has driven straight trucks for 41 years, accumulating 307,500 miles, and tractor-trailer combinations for 13 years, accumulating 1.3 million miles. He holds a Class AM CDL from Pennsylvania. His driving record for the last 3 years shows no crashes and no convictions for moving violations in a CMV.

Mark E. Jeans

Mr. Jeans, 35, has had Behcet's panuveities, primary open angle glaucoma, and a retinal detachment in his right eye since 2005. The visual acuity in his right eye is light perception, and in his left eye, 20/20. Following an examination in 2014, his ophthalmologist stated, “In our medical opinion, Mr. Jeans has sufficient vision to operate a commercial vehicle.” Mr. Jeans reported that he has driven straight trucks for one year, accumulating 11,000 miles, and buses for 13 years, accumulating 2.15 million miles. He holds a Class B CDL from Oklahoma. His driving record for the last 3 years shows no crashes and no convictions for moving violations in a CMV.

Chad Kauffman

Mr. Kauffman, 26, has enucleation in his right eye due to a traumatic incident during childhood. The visual acuity in his right eye is no light perception, and in his left eye, 20/20. Following an examination in 2015, his optometrist stated, “In my medical opinion I do believe he has adapted to monocular vision very well and does meet the requirements necessary to operate a commercial vehicle.” Mr. Kauffman reported that he has driven straight trucks for 4 years, accumulating 4,000 miles. He holds an operator's license from Pennsylvania. His driving record for the last 3 years shows no crashes and no convictions for moving violations in a CMV.

Scottie W. Lewis

Mr. Lewis, 42, has had band keratopathy and keratectomy in his right eye since childhood. The visual acuity in his right eye is no light perception, and in his left eye, 20/20. Following an examination in 2014, his optometrist stated, “Patient has normal 20/20 Vision with full visual field in his left eye sufficient to operate a commercial motor vehicle.” Mr. Lewis reported that he has driven straight trucks for 23 years, accumulating 112,700 miles. He holds a Class A CDL from Georgia. His driving record for the last 3 years shows no crashes and no convictions for moving violations in a CMV.

David S. Mayo

Mr. Mayo, 46, has had refractive amblyopia in his right eye since 2005. The visual acuity in his right eye is 20/200, and in his left eye, 20/25. Following an examination in 2015, his optometrist stated, “pt [sic] reports that need testing done for commercial license . . . h/o [sic] refractive amblyopia OD since 2005 when pt [sic] was first seen here . . . Patient drivesDriving [sic] Difficulties: none . . . Fields: Full with no restrictions OU.” Mr. Mayo reported that he has driven straight trucks for 10 years, accumulating one million miles, and tractor-trailer combinations for 10 years, accumulating one million miles. He holds a Class A CDL from Virginia. His driving record for the last 3 years shows one crash, to which he did not contribute and was not cited, and no convictions for moving violations in a CMV.

Ross E. McCleary

Mr. McCleary, 38, has optic nerve compression in his left eye since childhood. The visual acuity in his right eye is 20/20, and in his left eye, no light perception. Following an examination in 2014, his optometrist stated, “I certify that because of the stability of the visual condition, which has been long standing, he has sufficient vision to perform the driving task required to operate a commercial vehicle.”

Mr. McCleary reported that he has driven straight trucks for 4 years, accumulating 100,000 miles. He holds a Class A CDL from Nebraska. His driving record for the last 3 years shows no crashes and no convictions for moving violations in a CMV.

Alex D. McCrady

Mr. McCrady, 27, has complete loss of vision in his left eye due to a traumatic incident in 2004. The visual acuity in his right eye is 20/20, and in his left eye, no light perception. Following an examination in 2014, his ophthalmologist stated, “I believe he has sufficient vision to perform the driving tasks requirec [sic] to operate a commercial vehicle.” Mr. McCrady reported that he has driven straight trucks for six years, accumulating 300,000 miles, and tractor-trailer combinations for four months, accumulating 5,000 miles. He holds a Class AMC CDL from New Hampshire. His driving record for the last 3 years shows no crashes and no convictions for moving violations in a CMV.

Stacy L. Michael

Mr. Michael, 48, has had amblyopia in his right eye since birth. The visual acuity in his right eye is 20/80, and in his left eye, 20/20. Following an examination in 2014, his optometrist stated, “In my medical opinion Stacy Michael has sufficient vision to perform the driving tasks required to operate a commercial vehicle.” Mr. Michael reported that he has driven straight trucks for 27 years, accumulating 81,000 miles, and tractor-trailer combinations for 27 years, accumulating 189,000 miles. He holds a Class A CDL from Ohio. His driving record for the last 3 years shows no crashes and no convictions for moving violations in a CMV.

Charles A. Morgan

Mr. Morgan, 75, has had a retinal vascular occlusion in his right eye since 2009. The visual acuity in his right eye is 20/100, and in his left eye, 20/25. Following an examination in 2014, his optometrist stated, “Mr. Morgan appears to have sufficient vision to perform the driving tasks required to operate a commercial vehicle.”

Mr. Morgan reported that he has driven buses for 50 years, accumulating 500,000 miles. He holds a Class B CDL from North Carolina. His driving record for the last 3 years shows no crashes and no convictions for moving violations in a CMV.

Paul C. Swanson

Mr. Swanson, 56, has had amblyopia in his right eye since childhood. The visual acuity in his right eye is 20/150, and in his left eye, 20/25. Following an examination in 2014, his ophthalmologist stated, “Patient has sufficient vision to operate a commercial vehicle without restriction.” Mr. Swanson reported that he has driven straight trucks for 33 years, accumulating 1.05 million miles. He holds a Class B CDL from Illinois. His driving record for the last 3 years shows no crashes and one conviction for a moving violation in a CMV; he exceeded the speed limit by 15 MPH.

Terrance W. Temple

Mr. Temple, 58, has had amblyopia in his right eye since childhood. The visual acuity in his right eye is 20/100, and in his left eye, 20/20. Following an examination in 2014, his optometrist stated, “In my opinion, he has sufficient vision to drive a commercial vehicle.” Mr. Temple reported that he has driven straight trucks for 40 years, accumulating 624,000 miles. He holds a Class B CDL from Ohio. His driving record for the last 3 years shows no crashes and no convictions for moving violations in a CMV.

Rick A. Tucker

Mr. Tucker, 60, has had a retinal detachment in his left eye since 2001. The visual acuity in his right eye is20/30, and in his left eye, 20/200. Following an examination in 2014, his optometrist stated, “Mr. Tucker's visual abilities are adequate to perform the driving tasks required to operate a commercial vehicle.” Mr. Tucker reported that he has driven straight trucks for 15 years, accumulating 750,000 miles, and tractor-trailer combinations for 15 years, accumulating 750,000 miles. He holds a Class A CDL from Missouri. His driving record for the last 3 years shows no crashes and no convictions for moving violations in a CMV.

Jason R. White

Mr. White, 32, has had amblyopia in his right eye since childhood. The visual acuity in his right eye is 20/50, and in his left eye, 20/20. Following an examination in 2014, his optometrist stated, “I found no reason to believe he does not have sufficient vision to perform the driving tasks required to operate a commercial vehicle.” Mr. White reported that he has driven straight trucks for 6.5 years, accumulating 243,750 miles. He holds an operator's license from Ohio. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0302 in the “Keyword” box, and click “Search”. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0302 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued On: February 26, 2015.
Larry W. Minor,
Associate Administrator for Policy.

[FR Doc. 2015-05236 Filed 3-5-15; 8:45 am]

BILLING CODE 4910-EX-P